DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is updating the Federal Register notice for the entry of one person on OFAC's Specially Designated National and Blocked Persons List (SDN List).

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On May 17, 2018, OFAC determined that the property and interests in property subject to U.S. jurisdiction of the following person are blocked under the relevant sanctions authority listed below. OFAC is updating the Federal Register notice for the entry of one person on OFAC's Specially Designated National and Blocked Persons List (SDN List) in order to clarify the basis for designation for the individual listed below.

Individual

1. BAZZI, Mohammad Ibrahim (a.k.a. BAZZI, Mohamed; a.k.a. BAZZI, Muhammad Ibrahim; a.k.a. BAZZI, Muhammed), Adnan Al-Hakim Street, Yahala Bldg., Jnah, Lebanon; Eglantierlaan 13-15, 2020, Antwerpen, Belgium; Villa Bazzi, Dohat Al-Hoss, Lebanon; DOB 10 Aug 1964; POB Bent Jbeil, Lebanon; nationality Lebanon; alt. nationality Belgium; Additional Sanctions Information—Subject to Secondary Sanctions Pursuant to the Hizballah Financial Sanctions Regulations; Gender Male; Passport EJ341406 (Belgium) expires 31 May 2017; alt. Passport 750249737; alt. Passport 899002098 (United Kingdom); alt. Passport 487/2007 (Lebanon); alt. Passport RL3400400 (Lebanon); alt. Passport 0236370 (Sierra Leone); alt. Passport D0000687 (The Gambia) (individual) [SDGT] (Linked To: HIZBALLAH).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of HIZBALLAH, an entity whose property and interests in property are blocked pursuant to E.O. 13224.

Dated: April 15, 2019.
Andrea Gacki,
Director, Office of Foreign Assets Control.

[FR Doc. 2019-07846 Filed 4-18-19; 8:45 am]

BILLING CODE 4810-AL-P